DEPARTMENT OF TRANSPORTATION

Maritime Administration

[Docket No. MARAD-2019-0093]

Deepwater Port License Application: Texas GulfLink LLC; Extension of Supplemental Draft Environmental Impact Statement Comment Period

AGENCY: Maritime Administration, Department of Transportation.

ACTION: Notice of extension of the Supplemental Draft Environmental Impact Statement comment period.

SUMMARY: By Federal Register notice of Friday, September 30, 2022, titled Notice of Availability; Notice of Virtual Public Meetings; Request for Comments, the Maritime Administration (MARAD), in coordination with the U.S. Coast Guard (USCG), announced the availability of the Supplemental Draft Environmental Impact Statement (SDEIS) for the Texas GulfLink LLC (GulfLink) deepwater port license application for the export of crude oil from the United States to nations abroad. Publication of the September notice announced a 45-day comment period, requested public participation in the environmental impact review process, provided information on how to participate in the environmental impact review process, and announced the virtual public meeting and an informational open house website for the SDEIS. The notice also provided that the comment period would end on November 14, 2022. MARAD is extending the public comment period to November 30, 2022, to allow the public and interested parties a full 45 days to review the SDEIS and provide written comments.

DATES: Comments or related material on the Texas GulfLink deepwater port license application must be received by November 30, 2022.

ADDRESSES: You may submit comments identified by DOT Docket Number MARAD-2019-0093 by any one of the following methods:

• Federal eRulemaking Portal: Go to https://www.regulations.gov, search MARAD-2019-0093 and follow the instructions for submitting comments.

• Mail or Hand Delivery: The Docket Management Facility is in the West Building, Ground Floor of the U.S. Department of Transportation. The Docket Management Facility location address is U.S. Department of Transportation, MARAD-2019-0093, 1200 New Jersey Avenue SE, West Building, Room W12-140, Washington, DC 20590.

Faxed, mailed or hand delivered submissions must be unbound, no larger than 8½ by 11 inches and suitable for copying and electronic scanning. The format of electronic submissions should also be no larger than 8½ by 11 inches. If you mail your submission and want to know when it reaches the Federal Docket Management Facility, please include a stamped, self-addressed postcard or envelope.

Note: If you mail or hand-deliver your comments, we recommend that you include your name and a mailing address, an email address, and/or a telephone number on a cover page, so that we can contact you if we have questions regarding your submission. Instructions: All submissions received must include the agency name and specific docket number (MARAD-2019-0093). All comments received will be posted without change to the docket at https://www.regulations.gov, including any personal information provided. For additional information please contact USCG via email at DeepwaterPorts@uscg.mil and MARAD via email at GulfLink_EIS@dot.gov. Include “MARAD-2019-0093” in the subject line of the message. These email addresses will not be relied on for the intake of comments on the GulfLink deepwater port license application. To submit written comments and other material submissions, please follow the directions above.

SUPPLEMENTARY INFORMATION:

Request for Comments

We request public comment on the GulfLink SDEIS. The comments may relate to, but are not limited to, the environmental impact of the proposed action. You may submit comments directly to the Federal Docket Management Facility during the public comment period (see ADDRESSES). We will consider all substantive comments and material received during the extended comment period.

The license application, comments, and associated documentation, as well as the DEIS, SDEIS and the Final Environmental Impact Statement (when published), are available for viewing at the Federal Docket Management System website: https://www.regulations.gov under docket number MARAD-2019-0093.

This extension is intended to accommodate public review of a version of the SDEIS, which displays horizontal lines in the margins, indicating changes made to the Draft Environmental Impact Statement (DEIS). An unmarked version of the SDEIS was posted on September 30, 2022, on the project's docket at https://www.regulations.gov. Other than the addition of the horizontal lines in the margins indicating changes made to the DEIS, there have been no further changes made to the document from that published on September 30, 2022.

All comments submitted to the docket via https://www.regulations.gov or delivered to the Federal Docket Management Facility will be posted, without change, to the Federal Docket Management Facility website (https://www.regulations.gov) and will include any personal information you provide. Therefore, submitting this information to the docket makes it public. You may wish to read the Privacy and Use Notice that is available on the FDMS website and the Department of Transportation Privacy Act Notice that appeared in the Federal Register on April 11, 2000 (65 FR 19477), see Privacy Act. You may view docket submissions at the Federal Docket Management Facility or electronically on the FDMS website.

Privacy Act

The electronic form of all comments received into the Federal Docket Management System can be searched by the name of the individual submitting the comment (or signing the comment, if submitted on behalf of an association, business, labor union, etc.). The Department of Transportation Privacy Act Statement can be viewed in the Federal Register published on April 11, 2000 (Volume 65, Number 70, pages 19477-78) or by visiting https://www.regulations.gov.

(Authority: 33 U.S.C. 1501, et seq., 49 CFR 1.93(h)).

By order of the Maritime Administrator.
T. Mitchell Hudson, Jr.,
Secretary, Maritime Administration.

[FR Doc. 2022-24487 Filed 11-9-22; 8:45 am]

BILLING CODE 4910-81-P